DEPARTMENT OF ENERGY

Federal Energy Regulatory Commission

[Docket Nos. GT01-25-003 and RP99-301-038]

ANR Pipeline Company; Notice of Compliance Filing

February 27, 2002.

Take notice that on December 21, 2001, ANR Pipeline Company (ANR) made a filing in compliance with three orders issued by the Commission on November 21, 2001, in the above referenced dockets. ANR Pipeline Company, 97 FERC ¶ 61,222 (2001); ANR Pipeline Company, 97 FERC ¶ 61,223; ANR Pipeline Company, 97 FERC ­¶ 61,224 (2001). As part of this filing, ANR has tendered (1) revised agreements with two shippers in compliance with these orders; and (2) Eighth Revised Sheet No. 190 of ANR's Second Revised Volume No. 1, with a proposed effective date of December 21, 2001.

Any person desiring to be heard or to protest said filing should file a motion to intervene or a protest with the Federal Energy Regulatory Commission, 888 First Street, NE, Washington, DC 20426, in accordance with Sections 385.214 or 385.211 of the Commission's Rules and Regulations. All such motions or protests must be filed on or before March 6, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5171 Filed 3-4-02; 8:45 am]

BILLING CODE 6717-01-P